DEPARTMENT OF HOUSING AND URBAN DEVELOPMENT

[Docket No. FR-7050-N-07]

30-Day Notice of Proposed Information Collection: At-Risk/Receivership/Receivership/Substandard/Troubled Program; OMB Control No.: 2577-New

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: March 17, 2022.

ADDRESSES: Interested persons are invited to submit comments regarding this proposal. Written comments and recommendations for the proposed information collection should be sent within 30 days of publication of this notice to OIRA_submission@omb.eop.gov or www.reginfo.gov/public/do/PRAMain. Find this particular information collection by selecting “Currently under 30-day Review—Open for Public Comments” or by using the search function.

FOR FURTHER INFORMATION CONTACT: Colette Pollard, Reports Management Officer, QDAM, Department of Housing and Urban Development, 451 7th Street SW, Washington, DC 20410; email Colette Pollard at Colette.Pollard@hud.gov or telephone 202-402-3400. This is not a toll-free number. Copies of available documents submitted to OMB may be obtained from Ms. Pollard.

SUPPLEMENTARY INFORMATION: This notice informs the public that HUD is seeking approval from OMB for the information collection described in Section A.

The Federal Register notice that solicited public comment on the information collection for a period of 60 days was published on November 30, 2021 at 86 FR 67968.

A. Overview of Information Collection

Title of Information Collection: At-Risk/Receivership/Receivership/Substandard/Troubled Program.

OMB Control Number: 2577-New.

Type of Request: New.

Agency Form Numbers: HUD-50075.1, HUD-50071.

Description of the Need for the Information and Proposed Use

The Transportation, Housing and Urban Development and Related Agencies Appropriations Act of 2021, approved on December 27, 2020, has an appropriation of fifteen (15) million dollars for Emergency Grants to improve the asset management condition of housing owned by public housing authorities (PHA) in Receivership, Troubled, Substandard or at Risk status. To be eligible for this funding, a PHAmust provide a narrative description of the physical needs and condition of the Asset Management Property (AMP); a plan with actions to address the issues at the AMP; and a projection of the impact of those actions on the AMP's performance.

Respondents: Public Housing Agencies.

Estimated Annual Reporting and Recordkeeping Burden: The estimated burden hours is 540 and the total annual cost is $21,774.

Information collection | Number of respondents | * Average number of responses per respondent | Total annual responses | Burden hours per response | Total hours | Hourly cost | Total annual cost
Narrative | 100 | 1 | 100 | 6 | 600 | $32.02 | $19,212
Post-award Reports | 10 | 1 | 10 | 8 | 80 | 32.02 | 2,562
Totals | 110 | 1 | 110 | varies | 540 | 32.02 | 21,774
* Avg. number of responses per respondent = Total Annual Responses ÷ Number of Responses approval number cited or do not have a reportable burden.

B. Solicitation of Public Comment

This notice is soliciting comments from members of the pubic and affected parties concerning the collection of information described in Section A on the following:

(1) Whether the proposed collection of information is necessary for the proper performance of the functions of the agency, including whether the information will have practical utility;

(2) The accuracy of the agency's estimate of burden of the proposed collection of information;

(3) Ways to enhance the quality, utility and clarity of the information to be collected; and

(4) Ways to minimize the burden of the collection of information on those who are to respond; including through the use of appropriate automated collection techniques or other forms of information technology, e.g., permitting electronic submission of responses.

(5) Ways to minimize the burden of the collection of information on those who are to respond, including the use of automated collection techniques or other forms of information technology.

HUD encourages interested parties to submit comments in response to these questions.

C. Authority

Section 3507 of the Paperwork Reduction Act of 1995, 44 U.S.C. chapter 35.

Colette Pollard,
Department Reports Management Officer, Office of the Chief Information Officer.

[FR Doc. 2022-03178 Filed 2-14-22; 8:45 am]

BILLING CODE 4210-67-P